DEPARTMENT OF ENERGY

Federal Energy Regulatory Commission

Combined Notice of Filings #1

Take notice that the Commission received the following electric corporate filings:

Docket Numbers: EC15-57-000.

Applicants: Kay Wind, LLC, Southern Power Company.

Description: Joint Application for Authorization for Disposition of Jurisdictional Facilities of Kay Wind, LLC, et. al.

Filed Date: 12/29/14.

Accession Number: 20141229-5206.

Comments Due: 5 p.m. ET 1/20/15.

Take notice that the Commission received the following electric rate filings:

Docket Numbers: ER10-1484-010.

Applicants: Shell Energy North America (U.S.), L.P.

Description: Updated Market Power Analysis for the Southeast Region of Shell Energy North America (U.S.), L.P.

Filed Date: 12/29/14.

Accession Number: 20141229-5201.

Comments Due: 5 p.m. ET 2/27/15.

Docket Numbers: ER10-2743-006; ER12-995-004; ER12-637-004; ER10-2793-006; ER10-2755-007; ER10-2739-010; ER10-1892-006; ER10-1886-006; ER10-1872-006; ER10-1859-006.

Applicants: Bluegrass Generation Company, L.L.C., Calhoun Power Company, LLC, Cherokee County Cogeneration Partners, LLC, Columbia Energy LLC, Decatur Energy Center, LLC, DeSoto County Generating Company, LLC, Las Vegas Power Company, LLC, Mobile Energy L L C, Santa Rosa Energy Center, LLC, LS Power Marketing, LLC.

Description: Updated Market Power Analysis in Southeast Region of the LS Power Development, LLC subsidiaries.

Filed Date: 12/29/14.

Accession Number: 20141229-5192.

Comments Due: 5 p.m. ET 2/27/15.

Docket Numbers: ER10-2870-005; ER14-2548-004; ER11-3013-004; ER10-2872-004; ER10-2868-004; ER10-2865-005; ER10-2860-006.

Applicants: TransCanada Power Marketing Ltd, TransCanada Hydro Northeast Inc., Ocean State Power LLC, TransCanada Maine Wind Development Inc., TC Ravenswood, LLC, TransCanada Energy Sales Ltd., Coolidge Power LLC.

Description: Notice of Non-Material Change in Status of TransCanada Entities.

Filed Date: 12/29/14.

Accession Number: 20141229-5179.

Comments Due: 5 p.m. ET 1/20/15.

Docket Numbers: ER11-4498-008; ER14-325-004; ER13-2409-004; ER12-979-008; ER12-2542-005; ER12-2448-008; ER12-128-005; ER11-4507-007; ER11-4501-009; ER11-4500-007; ER11-4499-008; ER11-4363-005.

Applicants: Smoky Hills Wind Farm, LLC, Smoky Hills Wind Project II, LLC, Enel Cove Fort, LLC, Enel Stillwater, LLC, Canastota Windpower, LLC, EGP Stillwater Solar, LLC, Caney River Wind Project, LLC, Rocky Ridge Wind Project, LLC, Prairie Rose Wind, LLC, Chisholm View Wind Project, LLC, Buffalo Dunes Wind Project, LLC, Osage Wind, LLC.

Description: Notice of Change in Status of Smoky Hills Wind Farm, LLC, et. al.

Filed Date: 12/29/14.

Accession Number: 20141229-5211.

Comments Due: 5 p.m. ET 1/20/15.

Docket Numbers: ER13-67-003.

Applicants: NorthWestern Corporation.

Description: Compliance filing per 35: Order No 1000 Fourth Regional Compliance Filing—Montana OATT to be effective 10/1/2013.

Filed Date: 12/30/14.

Accession Number: 20141230-5012.

Comments Due: 5 p.m. ET 1/20/15.

Docket Numbers: ER13-136-003; ER13-135-003; ER13-137-003; ER13-138-003; ER13-141-003; ER13-142-003.

Applicants: Georgia-Pacific Brewton LLC, Brunswick Cellulose LLC, Georgia-Pacific Cedar Springs LLC, Georgia-Pacfic Consumer Operations LLC, Palatka, Georgia-Pacific Consumer Products LP, Naheola, Georgia-Pacific Consumer Products LP, Savannah.

Description: Updated Market Power Analysis in Southeast Region of the Georgia-Pacific Entities.

Filed Date: 12/30/14.

Accession Number: 20141230-5028.

Comments Due: 5 p.m. ET 3/2/15.

Docket Numbers: ER15-747-000.

Applicants: Midcontinent Independent System Operator, Inc.

Description: § 205(d) rate filing per 35.13(a)(2)(iii): 2014-12-29 Sub-Regional Constraints in the PRA Filing to be effective 3/1/2015.

Filed Date: 12/29/14.

Accession Number: 20141229-5165.

Comments Due: 5 p.m. ET 1/20/15

Docket Numbers: ER15-748-000.

Applicants: Garrison Energy Center LLC.

Description: Baseline eTariff Filing per 35.1: Application for Market-Based Rate Authorization to be effective 12/31/2014.

Filed Date: 12/30/14.

Accession Number: 20141230-5002.

Comments Due: 5 p.m. ET 1/20/15.

Docket Numbers: ER15-749-000.

Applicants: Wheelabrator Ridge Energy Inc.

Description: Compliance filing per 35.37: compliance to be effective 2/28/2015.

Filed Date: 12/30/14.

Accession Number: 20141230-5026.

Comments Due: 5 p.m. ET 1/20/15.

Docket Numbers: ER15-750-000.

Applicants: Wheelabrator South Broward Inc.

Description: Compliance filing per 35.37: Compliance South to be effective 2/28/2015.

Filed Date: 12/30/14.

Accession Number: 20141230-5027.

Comments Due: 5 p.m. ET 1/20/15.

Docket Numbers: ER15-751-000.

Applicants: Wabash Valley Power Association, Inc.

Description: § 205(d) rate filing per 35.13(a)(2)(iii): Amendment to Rate Schedule—NREMC and SDI to be effective 1/1/2015.

Filed Date: 12/30/14.

Accession Number: 20141230-5054.

Comments Due: 5 p.m. ET 1/20/15.

Docket Numbers: ER15-752-000.

Applicants: Southwestern Public Service Company.

Description: § 205(d) rate filing per 35.13(a)(2)(iii): 12-30-14_RS135 SPS-GSEC_Amended Op Proc to be effective 1/1/2015.

Filed Date: 12/30/14.

Accession Number: 20141230-5064.

Comments Due: 5 p.m. ET 1/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2014.
Nathaniel J. Davis, Sr.,
Deputy Secretary.

[FR Doc. 2014-30946 Filed 1-5-15; 8:45 am]

BILLING CODE 6717-01-P